DEPARTMENT OF COMMERCE

Foreign-Trade Zones Board

[B-32-2013]

Foreign-Trade Zone 114—Peoria, Illinois; Application for Subzone; Easton-Bell Sports, Inc.; Rantoul, Illinois

An application has been submitted to the Foreign-Trade Zones (FTZ) Board by the Economic Development Council for Central Illinois, grantee of FTZ 114, requesting special-purpose subzone status for the facility of Easton-Bell Sports, Inc. (EBS), located in Rantoul, Illinois. The application was submitted pursuant to the provisions of the Foreign-Trade Zones Act, as amended (19 U.S.C. 81a-81u), and the regulations of the FTZ Board (15 CFR part 400). It was formally docketed on April 16, 2013.

The proposed subzone (71.9 acres) is located at 1001 Innovation Road, Rantoul, Champaign County. The company has indicated that a notification of proposed production activity will be submitted; the production notification would be published separately for public comment.

In accordance with the FTZ Board's regulations, Elizabeth Whiteman of the FTZ Staff is designated examiner to review the application and make recommendations to the FTZ Board.

Public comment is invited from interested parties. Submissions shall be addressed to the FTZ Board's Executive Secretary at the address below. The closing period for their receipt is June 3, 2013. Rebuttal comments in response to material submitted during the foregoing period may be submitted during the subsequent 15-day period to June 17, 2013.

A copy of the application will be available for public inspection at the Office of the Executive Secretary, Foreign-Trade Zones Board, Room 2111, U.S. Department of Commerce, 1401 Constitution Avenue NW., Washington, DC 20230-0002, and in the “Reading Room” section of the FTZ Board's Web site, which is accessible via www.trade.gov/ftz.

For further information, contact Elizabeth Whiteman at Elizabeth.Whiteman@trade.gov or (202) 482-0473.

Dated: April 16, 2013.
Andrew McGilvray,
Executive Secretary.

[FR Doc. 2013-09562 Filed 4-22-13; 8:45 am]

BILLING CODE 3510-DS-P